DEPARTMENT OF VETERANS AFFAIRS

[OMB Control No. 2900-0393]

Agency Information Collection Activity: Department of Veteran Affairs Acquisition Regulation (VAAR) Part 813, Simplified Acquisition Procedures

AGENCY: The Office of Management (OM), Department of Veterans Affairs.

ACTION: Notice.

SUMMARY: The Office of Management (OM), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Written comments and recommendations on the proposed collection of information should be received on or before December 11, 2017.

ADDRESSES: Submit written comments on the collection of information through Federal Docket Management System (FDMS) at www.Regulations.gov or to Ricky Clark, Office Of Acquisition and Logistics (003A2A), Department of Veterans Affairs, 810 Vermont Avenue NW., Washington, DC 20420 or email to Ricky.Clark@va.gov. Please refer to “OMB Control No. “2900-0393” in any correspondence. During the comment period, comments may be viewed online through FDMS.

FOR FURTHER INFORMATION CONTACT: Cynthia Harvey-Pryor at (202) 461-5870.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, OM invites comments on: (1) Whether the proposed collection of information is necessary for the proper performance of OM functions, including whether the information will have practical utility; (2) the accuracy of OM estimate of the burden of the proposed collection of information; (3) ways to enhance the quality, utility, and clarity of the information to be collected; and (4) ways to minimize the burden of the collection of information on respondents, including through the use of automated collection techniques or the use of other forms of information technology.

Authority: Under the PRA of 1995 (Pub. L. 104-13; 44 U.S.C. 3501-3521).

Title: Department Of Veteran Affairs Acquisition Regulation (VAAR) Part 813, Simplified Acquisition Procedures.

OMB Control Number: 2900-0393.

Type of Review: Extension of a currently approved collection.

Abstract: This request for an extension covers the competitive acquisition of commercial and non-commercial goods or services conducted under the simplified acquisition procedures of FAR Part 13 and VAAR Part 813 that exceed $25,000. The collection of procurement information is an integral part of the Federal acquisition process. VA cannot award contracts, issue purchase orders, or enter into blanket purchase agreements (BPAs) or other contract actions without the collection of information. The Federal Acquisition Regulation (FAR) contains PRA control numbers for the collection of information under FAR Parts 14, Sealed Bidding, and 15, Contracting by Negotiation. All VA invitation for bid (IFB) (i.e., sealed bid) and request for proposal (RFP) (i.e., negotiated) acquisitions exceeding $150,000 (or exceeding $ 7 million for commercial items) are conducted in accordance with FAR Parts 14 or 15 and are covered by the FAR PRA control numbers. In addition, many of VA's commercial item acquisitions between $150,000 and $7 million are also conducted in accordance with FAR Parts 14 or 15. Therefore, the OMB PRA control numbers assigned to the FAR already cover VA acquisition activities under FAR Parts 14 and 15 and VAAR Parts 814 and 815. There are no separate collections of information in VAAR Parts 814 and 815 that are over and above those already required by the FAR. However, the FAR does not have an OMB PRA control number for Part 13. Thus, this VAAR PRA number 2900-0393 covers VA's acquisition activities conducted under FAR Part 13 and under VAAR Part 813, since those activities are not covered by a PRA number assigned to the FAR.

Affected Public: Business or other for-profit and not-for-profit institutions.

Estimated Annual Burden: VAAR Part 813—20,845 Burden Hours.

Estimated Average Burden per Respondent: VAAR Part 813—1 Hour.

Frequency of Response: On occasion.

Estimated Number of Respondents: VAAR Part 813—20,845.

By direction of the Secretary.
Cynthia Harvey-Pryor,
Department Clearance Officer, Office of Quality, Privacy and Risk (OQPR), Department of Veterans Affairs.

[FR Doc. 2017-21700 Filed 10-6-17; 8:45 am]

BILLING CODE 8320-01-P